Title 3—

The President

Proclamation 8442 of October 23, 2009

National Forest Products Week, 2009

By the President of the United States of America

A Proclamation

America’s forests have helped spur the growth and development that has been indispensable to our Nation’s success. They have provided timber and water, as well as habitat for wildlife and opportunities for recreational activities. As a repository for renewable natural resources, forests have supplied the raw materials that have sustained us throughout our history. During National Forest Products Week, we recognize the value of our woodlands and commit ourselves to good stewardship and conservation practices that help us to responsibly manage our Nation’s forests.

As a renewable and recyclable resource, wood is one of our Nation’s most environmentally friendly building materials. Wood fiber is used throughout our daily lives, from the paper we write on to the offices where we work. We value the beauty of wood in our furniture, in our homes, and in artwork that surrounds us. Today, modern technology and stewardship practices by Federal, State, tribal, and private landowners have improved the way we manage our natural resources so that forests can meet the needs of current and future generations.

Forests are one of the foundations on which our Nation was formed; they are the backbone of our environment. This week, we recognize the value of forest products and the importance of their sustainable use to our lives.

To recognize the importance of products from our forests, the Congress, by Public Law 86-753 (36 U.S.C. 123), as amended, has designated the week beginning on the third Sunday in October of each year as National Forest Products Week and has authorized and requested the President to issue a proclamation in observance of this week.

NOW, THEREFORE, I, BARACK OBAMA, President of the United States of America, do hereby proclaim the week beginning on the third Sunday in October of each year as National Forest Products Week. I call on all Americans to celebrate the varied uses and products of our forested lands, as well as the people who carry on the tradition of careful stewardship of these precious natural resources for generations to come.

IN WITNESS WHEREOF, I have hereunto set my hand this twenty-third day of October, in the year of our Lord two thousand nine, and of the Independence of the United States of America the two hundred and thirty-fourth.

[FR Doc. E9-26092

Filed 10-27-09; 8:45 am]

Billing code 3195-W9-P